ENVIRONMENTAL PROTECTION AGENCY

[ER-FRL-8998-9]

Environmental Impacts Statements; Notice of Availability

Responsible Agency: Office of Federal Activities, General Information (202) 564-1399 or http://www.epa.gov/compliance/nepa/.

Weekly receipt of Environmental Impact Statements

Filed 08/29/2011 Through 09/02/2011

Pursuant to 40 CFR 1506.9

EIS No. 20110292, Draft EIS, FHWA, TN, Dickson Southwest Bypass Project, Transportation Improvement from TN-11 (U.S. 70) West of Dickson to TN-46 and/or I-40 South of Dickson, Funding, Dickson County, TN, Comment Period Ends: 10/24/2011, Contact: Charles J. O'Neill 615-781-5772.

EIS No. 20110293, Draft EIS, NPS, 00, Gulf Islands National Seashore General Management Plan, Implementation, Escambia, Santa Rosa and Okaloosa Counties, FL and Jackson and Harrison Counties, MS, Comment Period Ends: 11/07/2011, Contact: Larissa Read 303-969-2472.

EIS No. 20110294, Draft EIS, USACE, LA, I-12 to Bush, Louisiana Proposed Highway Project, Proposes to Construct a High-Speed, Four-Lane Arterial Highway from the Southern Terminus of the Current Modern Four-Lane Arterial Portion of Louisiana Highway (LA) 21 in Bush, LA, to Interstate 12 (I-12), St. Tammany Parish, LA, Comment Period Ends: 10/24/2011, Contact: James A. Barlow, Jr., PhD 504-862-2250.

EIS No. 20110295, Draft EIS, BLM, CA, Bakersfield Resource Management Plan, To Analyze Alternatives for the Planning and Management of Public Lands and Resources Administered by the BLM, Madera, San Luis Obispo, Santa Barbara, Ventura, Kings, Tulare, Eastern Fresno, and Western Kern Counties, CA, Comment Period Ends: 12/07/2011, Contact: Sue Porter 661-391-6067.

EIS No. 20110296, Draft EIS, FWS, AL, Alabama Beach Mouse Project, General Conservation Plan, Issuance of Incidental Take Permit, Implementation, Fort Morgan Peninsula, Baldwin County, AL, Comment Period Ends: 10/24/2011, Contact: David Dell 404-679-7313.

EIS No. 20110297, Final EIS, FWS, AL, Beach Club West and Gulf Highlands Condominiums Residential/Recreational Condominium Project, Incidental Take Permits for Construction and Occupancy, Consider Issuance of U.S. Army COE Section 10 and 404 Permits, Baldwin County, AL, Review Period Ends: 10/11/2011, Contact: David Dell 404-679-7313.

EIS No. 20110298, Draft EIS, NPS, CA, Golden Gate National Recreation Area and Muir Woods National Monument, Draft General Management Plan, City of San Francisco, Marin, San Francisco, San Mateo Counties, CA, Comment Period Ends: 11/07/2011, Contact: Nancy Horner 415-561-4937.

EIS No. 20110299, Draft EIS, BLM, WY, Lander Field Office Planning Area Project, Draft Resource Management Plan, To Analyzes Alternatives for the Planning and Management of Public Lands and Resources Administered by the BLM, Portions of Fremont, Natrona, Carbon, Sweetwater, Hot Springs, and Teton Counties, WY, Comment Period Ends: 12/07/2011, Contact: Chris Carlton 307-775-6227.

EIS No. 20110300, Final EIS, USFS, OR, North End Sheep Allotment Project, Proposes to Authorize Grazing Domestic Sheep, Walla Walla Range District of the Umatilla National Forest, Wallowa, Union, and Umatilla Counties, OR, Review Period Ends: 10/11/2011, Contact: Holly Harris 509-522-6290.

EIS No. 20110301, Draft EIS, USACE, CA, Phase 3-RD 17 100-Year Levee Seepage Area Project, To Implement Landside Levee Improvements, San Joaquin County, CA, Comment Period Ends: 10/24/2011, Contact: John Suazo 916-557-6719.

EIS No. 20110302, Draft EIS, FWS, 00, Sheldon National Wildlife Refuge Project, Draft Resource Conservation Plan, Implementation, Humboldt and Washoe Counties, NV and Lake County, OR, Comment Period Ends: 11/07/2011, Contact: Scott McCarthy 503-231-2232.

EIS No. 20110304, Final EIS, NOAA, 00, Amendment 10 to the Fishery Management Plan for Spiny Lobster, Establish Annual Catch Limits and Accountability Measures for Caribbean Spiny Lobster, Gulf of Mexico and South Atlantic Regions, Review Period Ends: 10/11/2011, Contact: Roy E. Crabtree, PhD 727-824-5701.

EIS No. 20110305, Final EIS, BOP, 00, Criminal Alien Requirement (CAR) 12 Procurement Project, To Award a Contract to House a Population of Approximately 1,750 Federal, Low-Security Adult Male Criminal Alien in a Contractor Owned and Operated Facility, Possible Site Selection: McRae Correctional Facility, McRae, Georgia, Great Plains Correctional Facility, Hinton, Oklahoma and Scott County, Mississippi, Review Period Ends: 10/11/2011, Contact: Richard A. Cohn 202-514-6470.

Amended Notices

EIS No. 20110190, Draft EIS, FRA, MS, Tupelo Railroad Relocation Planning and Environmental Study, To Improve Mobility and Safety by Reducing Roadway Congestion, City of Tupelo, MS, Comment Period Ends: 09/12/2011, Contact: John Winkle 202-493-6067. Revision to FR Notice Published 06/24/2011: Extending Comment Period from 08/08/2011 to 09/12/2011.

EIS No. 20110252, Final EIS, BLM, WY —Voided—Buckskin Mine Hay Creek II Project, Coal Lease Application WYW-172684, Wyoming Powder River Basin, Campbell County, WY, Review Period Ends: 09/12/2011, Contact: Teresa Johnson 307-261-7600. This FEIS was inadvertently refilled and published in 08/12/2011 FR. The Correct FEIS #20110237 was published in 07/29/2011.

EIS No. 20110256, Draft EIS, FRA, CA, California High-Speed Train (HST): Fresno to Bakersfield Section High-Speed Train, Proposes to Construct, Operate, and Maintain an Electric-Powered High-Speed Train (HST), Fresno, Kings, Tulare and Kern Counties, CA, Comment Period Ends: 10/13/2011, Contact: David Valenstein 202-493-6368. Revision to FR Notice 08/12/2011: Extended to Comment 09/28/2011 to 10/13/2011.

EIS No. 20110271, Final EIS, FHWA, CO, North 1-25 Corridor, To Identify and Evaluate Multi-Modal Transportation Improvement along 61 miles from the Fort Collins-Wellington Area, Funding and U.S. Army COE Section 404 Permit, Denver, CO, Review Period Ends: 10/03/2011, Contact: Monica Pavli 720-963-3012. Revision to FR Notice Published 08/19/2011: Extending the Wait Period from 09/19/2011 to 10/03/2011.

EIS No. 20110277, Draft Supplement, USFS, CO, San Juan Plan Revision, Updated Information, San Juan Public Lands, Draft Land Management Plan (DLMP), Implementation, San Juan National Forest, Archuleta, Conejos, Dolores, Hinsdale, LaPlata, Mineral, Montezuma, Montrose, Rio Grande, San Juan and San Miguel Counties, CO, Comment Period Ends: 11/25/2011, Contact: Shannon Manfredi 970-385-1229. Revision to FR Notice Published 08/26/2011: Extending Comment from 10/11/2011 to 11/25/2011.

EIS No. 20110281, Draft EIS, NPS, IA, Effigy Mounds National Monument, General Management Plan, Implementation, Clayton and Allamakee Counties, IA, Comment Period Ends: 10/31/2011, Contact: Nick Chevance 402-661-1844. Revision of FR Notice Published 09/02/2011: Correction to Comment Period from 10/24/2011 to 10/31/2011.

Dated: September 6, 2011.
Cliff Rader,
Acting Director, NEPA Compliance Division, Office of Federal Activities.

[FR Doc. 2011-23143 Filed 9-8-11; 8:45 am]

BILLING CODE 6560-50-P